FARM CREDIT ADMINISTRATION

12 CFR Part 615

RIN 3052-AC05

Funding and Fiscal Affairs, Loan Policies and Operations, and Funding Operations; Capital Adequacy; Effective Date

AGENCY: Farm Credit Administration.

ACTION: Notice of effective date.

SUMMARY: The Farm Credit Administration published a final rule under part 615 on April 16, 2003 (68 FR 18532). This final rule amends the capital adequacy regulations to add a definition of total liabilities for the net collateral ratio calculation, limit the amount of term preferred stock that may count as total surplus, clarify the circumstances in which we may waive disclosure requirements for an issuance of equities by a Farm Credit System institution, and make several nonsubstantive technical changes. These amendments update, modify, and clarify certain capital requirements. In accordance with 12 U.S.C. 2252, the effective date of the final rule is 30 days from the date of publication in the Federal Register during which either or both Houses of Congress are in session. Based on the records of the sessions of Congress, the effective date of the regulations is June 5, 2003.

EFFECTIVE DATES: The regulation amending 12 CFR part 615 published on April 16, 2003 (68 FR 18532) is effective June 5, 2003.

FOR FURTHER INFORMATION CONTACT: Alan Markowitz, Senior Policy Analyst, Office of Policy and Analysis, Farm Credit Administration, McLean, VA 22102-5090, (703) 883-4498, TTY (703) 883-4434;

or

Rebecca S. Orlich, Senior Attorney, Office of General Counsel, Farm Credit Administration, McLean, VA 22102-5090, (703) 883-4020, TTY (703) 883-2020.

(12 U.S.C. 2252(a) (9) and (10))

Dated: June 2, 2003.
Jeanette C. Brinkley,
Secretary, Farm Credit Administration Board.

[FR Doc. 03-14148 Filed 6-4-03; 8:45 am]

BILLING CODE 6705-01-P